PACIFIC NORTHWEST ELECTRIC POWER AND CONSERVATION PLANNING COUNCIL

Fifth Northwest Electric Power and Conservation Plan

AGENCY: Pacific Northwest Electric Power and Conservation Planning Council (Northwest Power and Conservation Council; the Council).

ACTION: Notice of adoption of the Fifth Northwest Electric Power and Conservation Plan.

SUMMARY: The Pacific Northwest Electric Power Planning and Conservation Act of 1980 (16 U.S.C. 839 et.) (the Power Act) requires the Council to adopt and periodically review and revise a regional power plan, the Northwest Electric Power and Conservation Plan (the power plan). The Council first adopted the power plan in 1983, with significant amendments or complete revisions adopted in 1986, 1991 and 1998. The Council began a review of the power plan in 2002, and in September 2004, the Council released for public review and comment the Draft Fifth Power Plan. During the comment period, the Council held public hearings in each of four Northwest states, as required by the Power Act, engaged in consultations about the power plan with various governments, entities and individuals in the region, and accepted and considered substantial written and oral comments.

At the Council public meeting in December 2004 in Portland, Oregon, the Council formally adopted the revised power plan, called the Fifth Northwest Electric Power and Conservation Plan. The revised power plan meets the requirements of the Power Act, which specifies the components the power plan is to have. The Power Act requires the power plan to include among other elements, an energy conservation program, a recommendation for research and development; a methodology for determining quantifiable environmental costs and benefits; a 20-year demand forecast; a forecast of power resources that the Bonneville Power Administration will need to meet its obligations; an analysis of reserve and reserve reliability requirements; and a surcharge methodology. The plan also includes the Council's Columbia River Basin Fish and Wildlife Program, developed pursuant to other procedural requirements under the Power Act.

The Council followed the adoption of the power plan with a decision at its February 2005 meeting, also in Portland, Oregon, to adopt a Response to Comments and Statement of Basis and Purpose to accompany the final power plan. A pre-publication version of the final power plan is available on the Council's Web site, at http://www.nwcouncil.org/energy/powerplan/draftplan/Default.htm. A formal version will be published in the near future.

FOR FURTHER INFORMATION CONTACT: If you would like more information, or assistance in obtaining a copy of the Fifth Power Plan, please contact the Council's central office. The Council's address is 851 SW Sixth Avenue, Suite 1100, Portland, Oregon 97204. The Council's telephone numbers are 503-222-5161, and 800-452-5161; the Council's FAX is 503-820-2370, and the Council's Web site is: http://www.nwcouncil.org.

Stephen L. Crow,
Executive Director.

[FR Doc. 05-5096 Filed 3-14-05; 8:45 am]

BILLING CODE 7905-01-M